DEPARTMENT OF COMMERCE

Office of the Secretary

Request for Comments on the Strategy for American Innovation

AGENCY: Office of the Secretary, Department of Commerce.

ACTION: Notice and Request for Information; Correction.

SUMMARY: On February 4, 2011, the Department of Commerce published a Request for Information (FRI) seeking input on a range of policy matters that can affect our innovativeness and competitiveness but particularly the Administration's Innovation Strategy (see http://www.Commerce.gov/competes for a link to the report). Due to an inadvertent error, that RFI contained an incorrect e-mail address where the public may submit comments and an incorrect phone number for the public contact. This notice provides the correct e-mail address and contact phone number. The public may submit e-mail comments to competitiveness@doc.gov and may contact Sabrina L. Montes at 202-482-6495 for any questions on the notice.

DATES: Comments must be postmarked or submitted by no later than April 1, 2011.

ADDRESSES: You may submit comments, identified by “Innovation Strategy RFI” by any of the following methods:

E-mail: competitiveness@doc.gov. Mail: Office of the Chief Economist, U.S. Department of Commerce, 1401 Constitution Avenue, NW., HCHB Room 4852, Washington, DC 20230.

FOR FURTHER INFORMATION CONTACT: Sabrina L. Montes: e-mail SMontes@doc.gov; telephone 202-482-6495.

Dated: February 9, 2011.
John Connor,
Office of the Secretary of Commerce.

[FR Doc. 2011-3560 Filed 2-16-11; 8:45 am]

BILLING CODE 3510-EA-P